DEPARTMENT OF TRANSPORTATION

Federal Aviation Administration

14 CFR Part 71

[Docket No. FAA-2015-3751; Airspace Docket No. 15-ANM-20]

Amendment of Class D and Class E Airspace; Salem, OR

AGENCY: Federal Aviation Administration (FAA), DOT.

ACTION: Final rule.

SUMMARY: This action modifies Class D airspace, Class E surface area airspace, and Class E airspace extending upward from 700 feet above the surface at McNary Field, Salem, OR. After further review, the FAA found some airspace unnecessary for Standard Instrument Approach Procedures during Instrument Flight Rules (IFR) operations at the airport. This action brings the controlled airspace into compliance with current FAA requirements, and adds to the safety and management of IFR operations at the airport.

DATES: Effective 0901 UTC, May 26, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at McNary Field, Salem, OR.

History

On September 21, 2015, the FAA published in the Federal Register a notice of proposed rulemaking (NPRM) to modify Class D airspace, Class E surface area airspace, Class E airspace extending upward from 700 feet above the surface at McNary Field, Salem, OR, (80 FR 56935). Interested parties were invited to participate in this rulemaking effort by submitting written comments on the proposal to the FAA. A total of 71 commenters responded to the NPRM. All comments received were considered before making a determination on this final rule.

Discussion of Comments

Of the 71 responses received, 19 concerned the potential economic impact to Christmas tree farms in the area. The FAA concurs that approximately two thirds of the Christmas tree farming acreage could be adversely affected. To mitigate the concerns for the agricultural areas, the FAA is creating shelves in the Class D, where feasible, between 4 and 5 miles southeast and southwest of the airport.

Many commenters made reference to the current airspace configuration. As the comments do not pertain to this proposal, no changes were required nor made. Twenty-four commenters requested the airspace to be changed to a configuration that existed prior to Aug 20, 2015. The FAA does not agree; the airspace that existed prior to Aug 20, 2015 did not protect the Instrument Flight Rule arrivals and departures or account for rising terrain.

Many commenters referenced the lack of adherence to airspace design criteria and Safety Risk Management directives during the previous airspace development process. The FAA does not concur. A review of the design process and the results was completed for both the current and previous proposals. The FAA found that all criteria contained in FAA Order JO 7400.2, Procedures for Handling Airspace Matters; FAA Order JO 8000.369, Safety Management System and the Administrative Procedures Act (5 U.S.C. 501 et seq.) were followed.

Nineteen commenters referenced a lack of public input. The FAA conducted a review of the process and found that all public coordination was completed consistent with the process outlined in JO 7400.2.

Three commenters were concerned that users would not be aware of airspace changes. They recommended that future airspace changes occur congruently with VFR Sectional chart publication and that a Notice to Airman (NOTAM) be used to identify pending changes. The FAA does not concur with publishing airspace changes congruent with the charting cycles; this could unnecessarily delay airspace changes six months to a year. Changes that become effective outside of the chart publication cycles are reflected in the Airport/Facilities Directory (A/FD), in the Aeronautical Chart Bulletin section. Pilots are required to consult the AF/D, prior to flying in a specific area, for information related to airspace changes that are pending. This publication is reviewed to ensure the potential airspace changes are published and accurate. For this proposal the FAA agrees to coordinate congruent effective and charting dates. Additionally, the FAA has modified its policies to allow a facility to post a Pointer NOTAM indicating the location of additional information for expanding airspace, to advise the aviation community of an airspace increase or altitude change that occurs outside of a sectional chart cycle.

Several commenters stated that Salem air traffic control tower was not aware of the changes. The FAA does not agree with these comments, as the facility was directly involved in and concurred with, the previous and current proposals.

Changes From the NPRM

The description of the Class D airspace area has been modified from that proposed in the NPRM. In light of public input, the FAA reevaluated the Class D design for McNary Field and incorporated shelves to facilitate access, into and out of the impacted Christmas Tree Farms, by commercial operators.

Class D and Class E airspace designations are published in paragraph 5000, 6002, and 6005, respectively, of FAA Order 7400.9Z, dated August 6, 2015, and effective September 15, 2015, which is incorporated by reference in 14 CFR part 71.1. The Class E airspace designation listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class D airspace, Class E surface area airspace, and Class E airspace extending upward from 700 feet above the surface at McNary Field, Salem, OR. After further review, the FAA found some airspace unnecessary when implementing Standard Instrument Approach Procedures for Instrument Flight Rules (IFR) operations at the airport. Class D airspace is extended upward from the surface to and including 2,700 feet within a 4-mile radius of McNary Field Airport, extending to 5 miles from the east clockwise to the north, excluding segments below 1,500 feet beyond 4 miles east and southwest of the airport. Class E surface area airspace extends upward from the surface within a 4-mile radius of McNary Field Airport, extending to 5 miles from the east clockwise to the north of the airport. Class E airspace extending upward from 700 feet above the surface is modified to within a 6.2-mile radius south to the northwest of McNary Field, with segments extending to 6.7 miles to the northeast, and 8.2 miles to the southeast of the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D Airspace.

* * * * *

ANM OR D Salem, OR [Modified]

Salem, McNary Field, OR

(Lat. 44°54′34″ N., long. 123°00′09″ W.)

That airspace extending upward from the surface to and including 2,700 feet within a 4-mile radius of McNary Field from the 330° bearing from the airport clockwise to the 74° bearing, extending to a 5-mile radius from the 74° bearing clockwise to the 330° bearing from the airport, excluding that airspace below 1,500 feet beyond 4 miles from the airport from the 74° bearing clockwise to the 133° bearing, and that airspace below 1,500 feet beyond 4 miles from the airport from the 164° bearing clockwise to the 254° bearing from the airport. This Class D airspace area is effective during the specific dates and times established in advance by a Notice to Airmen. The effective date and time will thereafter be continuously published in the Airport/Facility Directory.

Paragraph 6002 Class E Airspace Designated as Surface Areas.

* * * * *

ANM OR E2 Salem, OR [Modified]

Salem, McNary Field, OR

(Lat. 44°54′34″ N., long. 123°00′09″ W.)

That airspace extending upward from the surface within a 4-mile radius of McNary Field from the 330° bearing from the airport clockwise to the 074° bearing, and that airspace within a 5-mile radius of McNary Field from the 074° bearing from the airport clockwise to the 330° bearing.

Paragraph 6005 Class E Airspace Areas Extending Upward From 700 Feet or More Above the Surface of the Earth.

* * * * *

ANM OR E5 Salem, OR [Modified]

Salem, McNary Field, OR

(Lat. 44°54′34″ N., long. 123°00′09″ W.)

That airspace extending upward from 700 feet above the surface within a 6.2-mile radius of McNary Field from the 164° bearing from the airport clockwise to the 315° bearing, and that airspace within a 6.7-mile radius of McNary Field from the 315° bearing from the airport clockwise to the 074° bearing, and that airspace within a 8.2-mile radius of McNary Field from the 074° bearing from the airport clockwise to the 164° bearing of the airport.

Issued in Seattle, Washington, on February 26, 2016.
Tracey Johnson,
Manager, Operations Support Group, Western Service Center.

[FR Doc. 2016-05060 Filed 3-7-16; 8:45 am]

BILLING CODE 4910-13-P